ENVIRONMENTAL PROTECTION AGENCY

40 CFR Part 52

[EPA-R10-OAR-2007-0998; FRL-8684-1]

Approval and Promulgation of State Implementation Plans: Washington; Vancouver Air Quality Maintenance Area Second 10-Year Carbon Monoxide Maintenance Plan

AGENCY: Environmental Protection Agency (EPA).

ACTION: Direct final rule.

SUMMARY: EPA is taking direct final action to approve a State Implementation Plan (SIP) revision submitted by the State of Washington. The Washington State Department of Ecology submitted the Vancouver Air Quality Maintenance Area Second 10-year Carbon Monoxide Maintenance Plan on April 25, 2007. In accordance with the requirements of the Federal Clean Air Act (the Act), EPA is approving Washington's revision because the State adequately demonstrates that the Vancouver Air Quality Maintenance Area will maintain air quality standards for carbon monoxide (CO) through the year 2016.

DATES: This rule is effective on August 26, 2008, without further notice, unless EPA receives adverse comment by July 28, 2008. If EPA receives adverse comment, we will publish a timely withdrawal in the Federal Register informing the public that the rule will not take effect.

ADDRESSES: Submit your comments, identified by Docket ID No. EPA-R10-OAR-2007-0998, by any of the following methods:

• http://www.regulations.gov: Follow the on-line instructions for submitting comments.

• E-mail: vaupel.claudia@epa.gov.

• Mail: Claudia Vergnani Vaupel, U.S. EPA Region 10, Office of Air, Waste and Toxics (AWT-107), 1200 Sixth Avenue, Suite 900, Seattle, WA 98101.

• Hand Delivery/Courier: U.S. EPA Region 10, 1200 Sixth Avenue, Suite 900, Seattle, WA 98101. Attention: Claudia Vergnani Vaupel, Office of Air, Waste and Toxics, AWT—107. Such deliveries are only accepted during normal hours of operation, and special arrangements should be made for deliveries of boxed information.

Instructions: Direct your comments to Docket ID No. EPA-R10-OAR-2007-0998. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, is not placed on the Internet and will be publicly available only in hard copy. Publicly available docket materials are available either electronically in http://www.regulations.gov or in hard copy during normal business hours at the Office of Air, Waste and Toxics, U.S. EPA Region 10, 1200 Sixth Avenue, Seattle, WA 98101.

FOR FURTHER INFORMATION CONTACT: Claudia Vergnani Vaupel at telephone number: (206) 553-6121, e-mail address: vaupel.claudia@epa.gov, fax number: (206) 553-0110, or Gina Bonifacino at telephone number: (206) 553-2970, e-mail address: bonifacino.gina@epa.gov, or the above EPA, Region 10 address.

SUPPLEMENTARY INFORMATION:

Table of Contents

I. General Information

II. What is the Purpose of this Action?

III. What is the Background for this Action?

IV. How Have the Public and Stakeholders Been Involved in this Rulemaking Process?

V. Evaluation of Washington's Submittal

VI. Transportation and General Conformity

VII. Final Action

VIII. Statutory and Executive Order Reviews

I. General Information

A. What Should I Consider as I Prepare My Comments for EPA?

1. Submitting CBI. Do not submit this information to EPA through RME, regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

2. Tips for Preparing Your Comments. When submitting comments, remember to:

i. Identify the rulemaking by docket number and other identifying information (subject heading, Federal Register date and page number).

ii. Follow directions—The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. What Is the Purpose of This Action?

EPA is taking direct final action to approve the Second 10-year CO Maintenance Plan for the Vancouver, Washington Air Quality Maintenance Area. Vancouver attained the CO national ambient air quality standards (NAAQS) in 1996 and has not violated the standard since 1990. The second 10-year CO maintenance plan submitted by the state of Washington is designed to keep the Vancouver area in attainment for the CO standard for a second ten-year period beyond redesignation.

III. What Is the Background for This Action?

Under section 107(d)(1)(C) of the Act, any area designated before the date of enactment of the Clean Air Act Amendments of 1990 (CAAA) was to be designated upon enactment by operation of law. Under section 107(d)(1)(A) of the Act, States were required by 120 days after enactment of the CAAA, to submit lists designating all areas of the State as attainment, unclassifiable, or nonattainment.

Accordingly, on March 15, 1991, letters were submitted by the governors of Washington and Oregon to the EPA Region 10 Administrator recommending the Vancouver and Portland areas, respectively, be designated as nonattainment for CO. On November 6, 1991 (56 FR 56694) the areas were designated by EPA as nonattainment for CO and classified as “moderate” with design values less than or equal to 12.7 parts per million (ppm) under the provisions outlined in sections 186 and 187 of the Act. On September 29, 1995 (60 FR 50423) EPA divided the Portland-Vancouver area into separate nonattainment areas for each state.

The State of Washington, following the requirements of the Act, prepared and submitted revisions to the Washington SIP that first included an attainment plan, and then developed a plan to demonstrate maintenance of the standard for a 10-year period beyond the statutory attainment date. EPA published approval of a redesignation request to attainment and the first 10-year maintenance plan on October 21, 1996 (61 FR 54560). The first 10-year CO maintenance plan included a commitment for periodic review of the plan and submission of the second 10-year maintenance plan. The State of Washington submitted a second 10-year maintenance plan to EPA on April 25, 2007.

The national 8-hour CO ambient standard is attained when the daily average 8-hour CO concentration of 9.0 ppm is not exceeded more than once a year. Since the redesignation of the Vancouver area to attainment for CO on October 21, 1996, the second highest concentration in any calendar year measured by the approved monitoring network was 6.7 ppm, which is less than 9.0 ppm. Therefore the area is attaining the CO NAAQS.

In addition, areas that can demonstrate design values at or below 7.65 ppm (85 percent of exceedance levels of the CO NAAQS) for 8 consecutive quarters may use a Limited Maintenance Plan option. The current 8-hour CO design value for the Vancouver area is 4.8 ppm based on 2004-2005 data. The State of Washington has opted to develop a Limited Maintenance Plan to fulfill the Vancouver Area second 10-year maintenance period required by the Act.

IV. How Have the Public and Stakeholders Been Involved in This Rulemaking Process?

Section 110(a)(2) of the Act requires that each SIP revision be adopted after reasonable notice and public hearing. This must occur prior to the revision being submitted by a State to us. The state of Washington held a public hearing on March 1, 2007 in Vancouver, Washington. A notice of public hearing was published in The Columbian on January 29, 2007. A notice was also published in the Washington State Register on February 7, 2007. This SIP revision became State effective on April 9, 2007, and was submitted by the Governor's designee to us on April 25, 2007. EPA has evaluated the State's submittal and determined that the State met the requirements for reasonable notice and public hearing under section 110(a)(2) of the Act.

V. Evaluation of Washington's Submittal

EPA has reviewed the State's revised CO maintenance plan for the Vancouver air quality maintenance. This revision provides the second 10-year update to the maintenance plan for the area, as required by section 175A(b) of the Act. The following is a summary of the requirements and EPA's evaluation of how each requirement is met.

A. Base Year Emissions Inventory

The plan must contain an attainment year emissions inventory to identify a level of emissions in the area which is sufficient to attain the CO NAAQS. The Vancouver CO second 10-year maintenance plan contains an emissions inventory for the base year 2002 that is consistent with EPA's most recent guidance on maintenance plan emission inventories. The emissions inventory is a list, by source, of the air contaminants directly emitted into the Vancouver CO area. The data in the emissions inventory is based on calculations and is developed using emission factors, which is a method for converting source activity levels into an estimate of emissions contributions for those sources. Because violations of the CO NAAQS are most like to occur on winter weekdays, the inventory prepared is in a “typical winter day” format. The table below shows the pounds of CO emitted per winter day in 2002 by source category.

2002 Emission Inventory, Main Source Category Subtotals
Main source category | CO emissions pounds per winter day (lb/d)
Point Sources | 4,396
Onroad Mobile Sources | 383,058
Non-road Mobile Sources | 56,837
Area Sources | 126,377
Total | 570,669

B. Demonstration of Maintenance

The maintenance plan demonstration requirement is considered to be satisfied for areas using the Limited Maintenance Plan option, which are required to demonstrate design values at or below 7.65 ppm (85 percent of exceedance levels of the CO NAAQS) for 8 consecutive quarters. The State of Washington has opted to develop a Limited Maintenance Plan to fulfill the Vancouver Area second 10-year maintenance period required by the Act.

With the Limited Maintenance Plan option, there is no requirement to project emissions of air quality over the maintenance period. EPA believes that if the area begins the maintenance period at, or below, 85 percent of the level of the CO 8-hour NAAQS, the applicability of prevention of significant deterioration requirements, the control measures already in the SIP, and Federal measures, should provide adequate assurance of maintenance over the 10-year maintenance period. The last monitored violation of the CO NAAQS in Vancouver occurred in 1990 and monitored CO levels have been steadily in decline ever since. The current 8-hour CO design value for the Vancouver CO area is 4.8 ppm based on 2004-2005 data, which is below the limited maintenance plan requirement of 7.65 ppm. Therefore, the Vancouver area has adequately demonstrated that it will maintain the CO NAAQS into the future.

C. Monitoring Network and Verification of Continued Attainment

To verify the attainment status of the area over the maintenance period, the maintenance plan should contain provisions for continued operation of an appropriate, EPA-approved monitoring network in accordance with 50 CFR part 58. The State of Washington has an approved monitoring network that includes the Vancouver area. The monitoring network was most recently approved by EPA on November 16, 2007. In 2006, the Southwest Clean Air Agency requested permission to remove the CO monitor at the Atlas and Cox site in Vancouver and EPA concurred that monitoring could be discontinued at the site. The State is continuing to verify attainment by conducting a triennial review of CO emissions from the countywide emissions inventory.

D. Contingency Plan

Section 175A(d) of the Act requires that a maintenance plan include contingency provisions. The Vancouver Area CO Maintenance Plan contains a tiered level of response should the triennial emission inventory show that annual county-wide on road mobile emissions have increased over 2005 levels. The contingency plan calls for analysis of appropriate emission reduction measures and their implementation.

VI. Transportation and General Conformity

Transportation conformity is required by section 176(c) of the Clean Air Act. EPA's conformity rule requires that transportation plans, programs, and projects that are funded under 23 U.S.C. or the Federal Transit Act conform to SIPs. Conformity to a SIP means that transportation activities will not produce new air quality violations, worsen existing violations, or delay timely attainment of the NAAQS.

The transportation conformity rule (40 CFR parts 51 and 93) and the general conformity rule (40 CFR parts 51 and 93) apply to nonattainment areas and maintenance areas covered by an approved maintenance plan. Under either conformity rule, an acceptable method of demonstrating that a Federal action conforms to the applicable SIP is to demonstrate that expected emissions from the planned action are consistent with the emissions budget for the area.

While EPA's Limited Maintenance Plan option does not exempt an area from the need to affirm conformity, it explains that the area may demonstrate conformity without submitting an emissions budget. Under the Limited Maintenance Plan option, emissions budgets are treated as essentially not constraining for the length of the maintenance period because it is unreasonable to expect that the qualifying areas would experience so much growth in that period that a violation of the CO NAAQS would result. Similarly, Federal actions subject to the general conformity rule could be considered to satisfy the “budget test” specified in section 93.158(a)(5)(i)(A) for the same reasons that the budgets are essentially considered to be unlimited.

1. Transportation Conformity

While areas with maintenance plans approved under the Limited Maintenance Plan option are not subject to the budget test, the areas remain subject to other transportation conformity requirements of 40 CFR part 93, subpart A. Thus, the metropolitan planning organization (MPO) in the area or the State must document and ensure that:

a. Transportation plans and projects provide for timely implementation of SIP transportation control measures in accordance with 40 CFR 93.113;

b. Transportation plans and projects comply with the fiscal constraint element per 40 CFR 93.108;

c. The MPO's interagency consultation procedures meet applicable requirements of 40 CFR 93.105;

d. Conformity of transportation plans is determined no less frequently than every four years, and conformity of plan amendments and transportation projects is demonstrated in accordance with the timing requirements specified in 40 CFR 93.104;

e. The latest planning assumptions and emissions model are used as set forth in 40 CFR 93.110 and 40 CFR 93.111;

f. Projects do not cause or contribute to any new localized carbon monoxide or particulate matter violations, in accordance with procedures specified in 40 CFR 93.123; and

g. Project sponsors and/or operators provide written commitments as specified in 40 CFR 93.125.

EPA meets at least annually with the Washington Department of Ecology, the Southwest Clean Air Agency, the Federal Highway Administration, the Southwest Washington Regional Transportation Council, and the Washington Department of Transportation to review documentation and the Transportation Improvement Plan for the Vancouver area and determine if the area is meeting the transportation conformity requirements under 40 CFR part 93. Vancouver is currently meeting the requirements under 40 CFR part 93, subpart A.

On November 19, 2007, EPA posted a notice finding the Vancouver CO second 10-year maintenance plan adequate for transportation conformity purposes. (See 72 FR 65019.)

VII. Final Action

In accordance with the requirements of the Federal Clean Air Act (the Act), EPA is approving this revision to the State Implementation Plan (SIP) because the State adequately demonstrates that the Vancouver Air Quality Maintenance Area will maintain air quality standards for CO through the year 2016. EPA is publishing this action without prior proposal because the Agency views this as a noncontroversial amendment and anticipates no adverse comments. However, in the proposed rules section of this Federal Register publication, EPA is publishing a separate document that will serve as the proposal to approve the SIP revision should adverse comments be filed. This rule will be effective August 26, 2008 without further notice unless the Agency receives adverse comments by July 28, 2008.

If EPA receives such comments, then EPA will publish a timely withdrawal of the direct final rule informing the public that the rule will not take effect. All public comments received will then be addressed in a subsequent final rule based on the proposed rule. The EPA will not institute a second comment period on this rule. Any parties interested in commenting on this rule should do so at this time. If no such comments are received, the public is advised that this rule will be effective on August 26, 2008 and no further action will be taken on the proposed rule.

VIII. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 26, 2008. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Reporting and recordkeeping requirements.

Dated: June 10, 2008.
Michelle Pirzadeh,
Acting Regional Administrator, EPA Region 10.

For the reasons set out in the preamble, title 40, chapter I of the Code of Federal Regulations is amended as follows:

PART 52—[AMENDED]

1. The authority citation for part 52 continues to read as follows:

Authority: 42 U.S.C. 7401 et seq.

Subpart WW—Washington

2. Section 52.2475 is amended by adding paragraph (a)(4) to read as follows:

§ 52.2475 Approval of plans.

(a) * * *

(4) Vancouver.

(i) EPA approves as a revision to the Washington State Implementation Plan, the Vancouver Air Quality Maintenance Area Second 10-year Carbon Monoxide Maintenance Plan submitted by the Washington Department of Ecology on April 25, 2007.

(ii) [Reserved]

* * * * *

[FR Doc. E8-14518 Filed 6-26-08; 8:45 am]

BILLING CODE 6560-50-P